DEPARTMENT OF DEFENSE

Department of the Air Force

Privacy Act of 1974, System of Records

AGENCY: Department of the Air Force, DoD.

ACTION: Notice to amend systems of records.

SUMMARY: The Department of the Air Force is amending a system of records notice in its existing inventory of record systems subject to the Privacy Act of 1974 (5 U.S.C. 552a), as amended.

DATES: This proposed action will be effective without further notice on February 11, 2002, unless comments are received which result in a contrary determination.

ADDRESSES: Send comments to the Air Force FOIA/Privacy Manager, CIO-BIM/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974 (5 U.S.C. 552a), as amended, have been published in the Federal Register and are available from the address above.

The specific changes to the records systems being amended are set forth below followed by the notices, as amended, published in their entirety. The proposed amendments are not within the purview of subsection (r) of the Privacy Act of 1974 (5 U.S.C. 552a), as amended, which requires the submission of a new or altered system report.

Dated: January 4, 2002.
L.M. Bynum,
Alternate OSD Federal Register Liaison Officer, Department of Defense.

F036 AF CIC A

System name:

Biographical Data and Automated Personnel Management System (June 11, 1997, 62 FR 31793).

Changes:

System identifier:

Delete entry and replace with “F036 AF A”.

* * * * *

System location:

Replace “unified and specified commands” with “combatant commands”.

Categories of individuals covered:

Replace “unified and specified commands” with “combatant commands”.

* * * * *

System manager(s) and address:

Delete “Director of Information Management, Office of the Administrative Assistant to the Secretary of the Air Force, Washington, DC 20330-1000. Local system managers”.

* * * * *

F036 AF A

System name:

Biographical Data and Automated Personnel Management System.

System location:

Headquarters United States Air Force; headquarters of major commands; field operating agencies; direct reporting units; headquarters of combatant commands for which Air Force is Executive Agent, and all Air Force installations and units. Official mailing addresses are published as an appendix to the Air Force's compilation of record systems notices.

Categories of individuals covered by the system:

Active duty Air Force military personnel, and Air Force Reserve and Air National Guard personnel. Air Force civilian employees and contractors may be included when records are created which are identical to those on military members. Army, Navy, and Marine Corps Active duty military and civilian personnel may be included when assigned to combatant commands for which Air Force is the Executive Agent. Records may be maintained in this system on personnel in a Temporary Duty (TDY) status for the duration of the TDY.

Categories of records in the system:

Biographical information which may include name, rank, Social Security Number, service dates, date of birth, civilian employment, military and civilian education, military and civilian experience, program specialties, hobbies, and names of family members, religion, professional expertise and appointments, membership in professional societies, civic activities and state of license.

Limited locator type information which may include home address, home phone, home of record and name and address of next of kin. Records relating to assignment to include unit of assignment, authorized and assigned grade, duty title, duty Air Force Specialty Code and Military Occupation Code, position number, date assigned to organization, estimated date of departure, control tour code, assignment availability date, overseas tour start date, short tour return date, supervisor's name and date supervision began.

Performance data, i.e. date of last report and date next report due.

May also contain limited routine administrative training information consisting of application for training, name and date of course completion, and educational level, when not filed in a separate system.

Limited routine correspondence on promotions, military honors and awards, security and letters of appreciation, when not filed in a separate system.

Authority for maintenance of the system:

10 U.S.C. 8013, Secretary of the Air Force and E.O. 9397 (SSN).

Purpose(s):

This system is established as a management tool to provide commanders and supervisors with ready reference information file for managing their personnel, manpower and resources.

To assist in determining and scheduling workload requirements in support of their organization's assigned mission.

This system serves a ready reference locator and can be used to produce manpower reports.

Used to determine eligibility/suitability for assignment/reassignment; determine eligibility for retirement related action, to make determinations on discharges or mobilization, deferments, and fulfillment of local or statutory requirements.

Records maintained as a historical file while individual is assigned to the unit.

Used to answers correspondence/telephone inquiries; updating and/or changing information in computer and/or individual record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force's compilation of systems of records notices apply to this system.

Policies and practices for storing, retrieving, accessing, retaining, and disposing of records in the system:

Storage:

Maintained in file folders, in computers and on computer output products.

Retrievability:

Retrieved by name and/or Social Security Number.

Safeguards:

Records are accessed by person(s) responsible for servicing the record system in performance of their official duties and by authorized personnel who are properly screened and cleared for need-to-know. Records are stored in locked rooms and cabinets. Those in computer storage devices are protected by computer system software.

Retention and disposal:

Retain in office files until superseded, obsolete, no longer needed for reference, reassignment, separation or retirement of the individual or inactivation of the organization. Records on TDY personnel will be destroyed upon completion of the individual's TDY. Records are destroyed by tearing into pieces, shredding, pulping, macerating, or burning. Computer records are destroyed by erasing, deleting or overwriting.

System manager(s) and address:

Commanders/supervisors at the installation, base, unit, organization, office or function to which the individual is assigned. Official mailing addresses are published as an appendix to the Air Force's compilation of record systems notices.

Notification procedure:

Individuals seeking to determine whether information about themselves is contained in this system should address inquiries to or visit the respective unit commander or supervisor who maintains the records. Official mailing addresses are published as an appendix to the Air Force's compilation of record systems notices.

Record access procedures:

Individuals seeking to access records about themselves contained in this system should address requests to the respective unit commander or supervisor who maintains the records. Official mailing addresses are published as an appendix to the Air Force's compilation of record systems notices.

Contesting record procedures:

The Air Force rules for accessing records, and for contesting contents and appealing initial agency determinations are published in Air Force Instruction 37-132; 32 CFR part 806b; or may be obtained from the system manager.

Record source categories:

The individual, personnel or training records and records created by commander/supervisor.

Exemptions claimed for the system:

None.

[FR Doc. 02-678 Filed 1-10-02; 8:45 am]

BILLING CODE 5001-08-P